DEPARTMENT OF COMMERCE

International Trade Administration

(A-570-892)

Carbazole Violet Pigment 23 from the People's Republic of China: Notice of Extension of Time Limit for Final Results of the Antidumping Duty Administrative Review

AGENCY: Import Administration, International Trade Administration, Department of Commerce.

EFFECTIVE DATE: January 23, 2007.

FOR FURTHER INFORMATION CONTACT: Rebecca Trainor or Terre Keaton, AD/CVD Operations, Office 2, Import Administration, International Trade Administration, U.S. Department of Commerce, 14th Street and Constitution Avenue, NW, Washington, DC 20230; telephone (202) 482-4007 or (202) 482-1280, respectively.

SUPPLEMENTARY INFORMATION:

Background

On November 7, 2006, the Department of Commerce (“Department”) published in the Federal Register the preliminary results of the first antidumping duty administrative review of carbazole violet pigment 23 (CVP-23) from the People's Republic of China (PRC), covering the period June 24, 2004, through November 30, 2005. See Carbazole Violet Pigment 23 from the People's Republic of China; Preliminary Results of Antidumping Duty Administrative Review and Rescission in Part, 71 FR 65073 (November 7, 2006). The final results for this administrative review are currently due no later than March 7, 2007.

Extension of Time Limit for the Final Results

Section 751(a)(3)(A) of the Tariff Act of 1930, as amended (“the Act”), requires the Department to issue the final results of an administrative review within 120 days after the date on which the preliminary results are published. If it is not practicable to complete the review within that time period, section 751(a)(3)(A) of the Act allows the Department to extend the deadline for the final results by a maximum of 180 days.

The Department requires additional time to consider complex issues raised by interested parties, particularly with respect to surrogate values. Thus, it is not practicable to complete this review within the original time limit. Therefore, the Department is extending the time limit for completion of the final results by 60 days, in accordance with section 751(a)(3)(A) of the Act. The final results are now due not later than May 7, 2007, the next business day after 180 days from publication of the preliminary results.

We are issuing and publishing this notice in accordance with sections 751(a)(1) and 777(i)(1) of the Act.

Dated: January 17, 2007.
Stephen J. Claeys,
Deputy Assistant Secretary for Import Administration.

[FR Doc. E7-929 Filed 1-22-07; 8:45 am]

BILLING CODE 3510-DS-S